DEPARTMENT OF ENERGY

Federal Energy Regulatory Commission

Combined Notice of Filings #1

Take notice that the Commission received the following exempt wholesale generator filings:

Docket Numbers: EG22-137-000.

Applicants: Kossuth County Wind, LLC.

Description: Kossuth County Wind, LLC submits Notice of Self-Certification of Exempt Wholesale Generator.

Filed Date: 6/9/22.

Accession Number: 20220609-5162.

Comment Date: 5 p.m. ET 6/30/22.

Docket Numbers: EG22-138-000.

Applicants: IP Lumina, LLC.

Description: IP Lumina, LLC submits Notice of Self-Certification of Exempt Wholesale Generator Status.

Filed Date: 6/9/22.

Accession Number: 20220609-5197.

Comment Date: 5 p.m. ET 6/30/22.

Docket Numbers: EG22-139-000.

Applicants: IP Lumina II, LLC.

Description: IP Lumina II, LLC submits Notice of Self-Certification of Exempt Wholesale Generator Status.

Filed Date: 6/9/22.

Accession Number: 20220609-5198.

Comment Date: 5 p.m. ET 6/30/22.

Docket Numbers: EG22-140-000.

Applicants: Deerfield Wind Energy 2, LLC.

Description: Deerfield Wind Energy 2, LLC submits Notice of Self-Certification of Exempt Wholesale Generator Status.

Filed Date: 6/10/22.

Accession Number: 20220610-5145.

Comment Date: 5 p.m. ET 7/1/22.

Docket Numbers: EG22-141-000.

Applicants: IP Oberon, LLC.

Description: IP Oberon, LLC submits Notice of Self-Certification of Exempt Wholesale Generator Status.

Filed Date: 6/10/22.

Accession Number: 20220610-5194.

Comment Date: 5 p.m. ET 7/1/22.

Docket Numbers: EG22-142-000.

Applicants: IP Oberon II, LLC.

Description: IP Oberon II, LLC submits Notice of Self-Certification of Exempt Wholesale Generator Status.

Filed Date: 6/10/22.

Accession Number: 20220610-5197.

Comment Date: 5 p.m. ET 7/1/22.

Take notice that the Commission received the following electric rate filings:

Docket Numbers: ER22-2077-000.

Applicants: AEP Texas Inc.

Description: § 205(d) Rate Filing: AEPTX-King Creek Wind Farm 1 2nd A&R Generation Interconnection Agreement to be effective 5/13/2022.

Filed Date: 6/9/22.

Accession Number: 20220609-5152.

Comment Date: 5 p.m. ET 6/30/22.

Docket Numbers: ER22-2078-000.

Applicants: AEP Texas Inc.

Description: § 205(d) Rate Filing: AEPTX-Guadalupe Valley EC 2nd A&R Interconnection Agreement to be effective 5/23/2022.

Filed Date: 6/9/22.

Accession Number: 20220609-5156.

Comment Date: 5 p.m. ET 6/30/22.

Docket Numbers: ER22-2079-000.

Applicants: AEP Texas Inc.

Description: § 205(d) Rate Filing: AEPTX-King Creek Wind Farm 2 GIA to be effective 5/13/2022.

Filed Date: 6/9/22.

Accession Number: 20220609-5163.

Comment Date: 5 p.m. ET 6/30/22.

Docket Numbers: ER22-2080-000.

Applicants: Midcontinent Independent System Operator, Inc., Ameren Illinois Company.

Description: § 205(d) Rate Filing: Midcontinent Independent System Operator, Inc. submits tariff filing per 35.13(a)(2)(iii: 2022-06-07_SA 3028 Ameren IL-Prairie Power Project #35 Illiopolis to be effective 8/10/2022.

Filed Date: 6/10/22.

Accession Number: 20220610-5033.

Comment Date: 5 p.m. ET 7/1/22.

Docket Numbers: ER22-2081-000.

Applicants: Southwest Power Pool, Inc.

Description: § 205(d) Rate Filing: 2900R17 KMEA NITSA NOA to be effective 6/1/2022.

Filed Date: 6/10/22.

Accession Number: 20220610-5047.

Comment Date: 5 p.m. ET 7/1/22.

Docket Numbers: ER22-2082-000.

Applicants: Midcontinent Independent System Operator, Inc.

Description: § 205(d) Rate Filing: 2022-06-10 SA 3840 Rock Creek Solar FSA (J1084) to be effective 8/10/2022.

Filed Date: 6/10/22.

Accession Number: 20220610-5056.

Comment Date: 5 p.m. ET 7/1/22.

Docket Numbers: ER22-2083-000.

Applicants: Evergy Kansas Central, Inc., Southwest Power Pool, Inc.

Description: § 205(d) Rate Filing: Evergy Kansas Central, Inc. submits tariff filing per 35.13(a)(2)(iii: Evergy Kansas Central and Evergy Kansas South Formula Rate Revisions to be effective 6/1/2022.

Filed Date: 6/10/22.

Accession Number: 20220610-5062.

Comment Date: 5 p.m. ET 7/1/22.

Docket Numbers: ER22-2083-001.

Applicants: Evergy Kansas Central, Inc., Southwest Power Pool, Inc.

Description: Tariff Amendment: Southwest Power Pool, Inc. submits tariff filing per 35.17(b): Errata Filing—Evergy Kansas Central Formula Rate Revisions to be effective 8/1/2022.

Filed Date: 6/10/22.

Accession Number: 20220610-5131.

Comment Date: 5 p.m. ET 7/1/22.

Docket Numbers: ER22-2085-000.

Applicants: Bear Ridge Solar LLC.

Description: Bear Ridge Solar LLC submits Request for Limited Waiver Requesting Relief from the Regulatory Milestone Requirement of the New York Independent System Operator, Inc's Open Access Transmission Tariff.

Filed Date: 6/8/22.

Accession Number: 20220608-5144.

Comment Date: 5 p.m. ET 6/29/22.

Docket Numbers: ER22-2086-000.

Applicants: PJM Interconnection, L.L.C.

Description: § 205(d) Rate Filing: Original ISA, Service Agreement No. 6471; Queue No. AE1-020 (AE2-000) to be effective 5/13/2022.

Filed Date: 6/10/22.

Accession Number: 20220610-5155.

Comment Date: 5 p.m. ET 7/1/22.

Docket Numbers: ER22-2087-000.

Applicants: Public Service Company of Colorado.

Description: § 205(d) Rate Filing: 2022-06-10 Revisions to Att N-LGIP-Annual Cluster Study Process to be effective 8/9/2022.

Filed Date: 6/10/22.

Accession Number: 20220610-5163.

Comment Date: 5 p.m. ET 7/1/22.

Docket Numbers: ER22-2088-000

Applicants: PJM Interconnection, L.L.C.

Description: § 205(d) Rate Filing: Amendment to ISA, Service Agreement No. 3604; Queue No. W4-009/X4-005 to be effective 1/26/2019.

Filed Date: 6/10/22.

Accession Number: 20220610-5171.

Comment Date: 5 p.m. ET 7/1/22.

Docket Numbers: ER22-2089-000.

Applicants: Alabama Power Company, Georgia Power Company, Mississippi Power Company.

Description: § 205(d) Rate Filing: Alabama Power Company submits tariff filing per 35.13(a)(2)(iii: Origis Development (Thalmann 1 Solar & Battery) LGIA Filing to be effective 6/1/2022.

Filed Date: 6/10/22.

Accession Number: 20220610-5178.

Comment Date: 5 p.m. ET 7/1/22.

Docket Numbers: ER22-2090-000.

Applicants: Alabama Power Company, Georgia Power Company, Mississippi Power Company.

Description: § 205(d) Rate Filing: Alabama Power Company submits tariff filing per 35.13(a)(2)(iii: Origis Development (Thalmann 2 Solar & Battery) LGIA Filing to be effective 6/1/2022.

Filed Date: 6/10/22.

Accession Number: 20220610-5181.

Comment Date: 5 p.m. ET 7/1/22.

Take notice that the Commission received the following electric reliability filings:

Docket Numbers: RR21-9-001.

Applicants: North American Electric Reliability Corporation.

Description: Request of the North American Electric Reliability Corporation to redirect budgeted funds and to expend funds from the CRISP Operating Reserve.

Filed Date: 6/9/22.

Accession Number: 20220609-5199.

Comment Date: 5 p.m. ET 6/23/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 10, 2022.
Debbie-Anne A. Reese,
Deputy Secretary.

[FR Doc. 2022-12988 Filed 6-15-22; 8:45 am]

BILLING CODE 6717-01-P